INTERNATIONAL TRADE COMMISSION

Government in the Sunshine Act Meeting Notice

[USITC SE-12-033]

AGENCY HOLDING THE MEETING: United States International Trade Commission.

TIME AND DATE: November 27, 2012 at 11:00 a.m.

PLACE: Room 101, 500 E Street SW., Washington, DC 20436, Telephone: (202) 205-2000.

STATUS: Open to the public.

MATTERS TO BE CONSIDERED:

1. Agendas for future meetings: none

2. Minutes

3. Ratification List

4. Vote in Inv. No. 731-TA-921 (Second Review) (Folding Gift Boxes from China). The Commission is currently scheduled to transmit its determination and Commissioners' opinions to the Secretary of Commerce on or before December 10, 2012.

5. Outstanding action jackets: none

In accordance with Commission policy, subject matter listed above, not disposed of at the scheduled meeting, may be carried over to the agenda of the following meeting.

Issued: November 16, 2012.
By order of the Commission.
William R. Bishop,
Supervisory Hearings and Information Officer.

[FR Doc. 2012-28267 Filed 11-16-12; 11:15 am]

BILLING CODE 7020-02-P